DEPARTMENT OF COMMERCE

National Oceanic and Atmospheric Administration

RIN 0648-XD241

Mid-Atlantic Fishery Management Council (MAFMC); Public Meeting

AGENCY: National Marine Fisheries Service (NMFS), National Oceanic and Atmospheric Administration (NOAA), Commerce.

ACTION: Notice of a public meeting.

SUMMARY: The Scientific and Statistical Committee (SSC) of the Mid-Atlantic Fishery Management Council (Council) will hold meetings.

DATES: The SSC meeting will be held on Wednesday and Thursday, May 7-8, 2014. The meeting will begin at 9 a.m. on May 7 and conclude by 2 p.m. on May 8.

ADDRESSES: The meetings will be held at Admiral Fell Inn, 888 Broadway, Baltimore, MD 21231; telephone: (410) 522-7377.

Council Address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: Agenda items to be discussed at the SSC meeting include: 2015-17 ABC recommendations for butterfish; review multi-year ABC recommendations and research plan for Atlantic mackerel; 2015-17 ABC recommendations for Illex and long-finned squid; review fishery performance reports for surfclams and ocean quahogs; guidelines for ecosystem approach to fishery management; research plan development.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: April 15, 2014.
Tracey L. Thompson,
Acting Deputy Director, Office of Sustainable Fisheries, National Marine Fisheries Service.

[FR Doc. 2014-08876 Filed 4-17-14; 8:45 am]

BILLING CODE 3510-22-P